UNIFIED CARRIER REGISTRATION PLAN

Sunshine Act Meetings

TIME AND DATE: February 19, 2026, 12:00 p.m. to 3:00 p.m., Eastern Time.

PLACE: The meeting will be accessible via conference call and via Zoom Meeting and Screenshare. Any interested person may call (i) 1-929-205-6099 (US Toll) or 1-669-900-6833 (US Toll), Meeting ID: 991 4902 6456, to listen and participate in this meeting. The website to participate via Zoom Meeting and Screenshare is https://kellen.zoom.us/meeting/register/ZGshyez1RDyZAXlYetawog.

STATUS: This meeting will be open to the public.

MATTERS TO BE CONSIDERED: The Unified Carrier Registration Plan Finance Subcommittee (the “Subcommittee”) will continue its work in developing and implementing the Unified Carrier Registration Plan and Agreement. The subject matter of this meeting will include:

Proposed Agenda

I. Call to Order—UCR Finance Subcommittee Chair

The UCR Finance Subcommittee Chair will welcome attendees, call the meeting to order, call roll for the Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda and Setting of Ground Rules—UCR Finance Subcommittee Chair For Discussion and Possible Subcommittee Action

The agenda will be reviewed, and the Subcommittee will consider adoption of the agenda.

Ground Rules

Subcommittee action only to be taken in designated areas on agenda.

IV. Review and Approval of Subcommittee Minutes From the September 30, 2025, Meeting—UCR Finance Subcommittee Chair for Discussion and Possible Subcommittee Action

Draft minutes from the September 30, 2025, Subcommittee meeting will be reviewed. The Subcommittee will consider action to approve.

V. 2027 Registration Fee Update—UCR Finance Subcommittee Chair and Executive Director

The UCR Finance Subcommittee Chair and Executive Director will provide an update on the 2027 registration fee recommendation.

VI. Revenues From 2024 and 2025 Registration Fees—UCR Depository Manager

The UCR Depository Manager will review the revenues received from the 2024 and 2025 plan year registration fees

VII. 2024 External Financial Audit Update—UCR Finance Subcommittee Chair and UCR Depository Manager

The UCR Finance Subcommittee Chair and UCR Depository Manager will provide an update on UCR's 2024 External Financial Audit.

VIII. Management Report—UCR Finance Subcommittee Chair and UCR Depository Manager

The UCR Finance Subcommittee Chair and UCR Depository Manager will provide an update on UCR finances and related topics.

IX. Methodology for Distribution of Excess Funds From the Depository to Under Capped States—UCR Finance Subcommittee Chair and UCR Depository Manager for Discussion and Possible Subcommittee Action

The UCR Finance Subcommittee Chair and UCR Depository Manager will lead a discussion on the current methodology for the distribution of excess funds from the Depository to states that have not yet met their annual revenue caps and whether the methodology should be changed, and if so, how. The Subcommittee may recommend to the UCR Board a change in the current methodology for the distribution of excess funds from the Depository to states that have not yet met their annual revenue caps.

X. Other Business—UCR Finance Subcommittee Chair

The UCR Finance Subcommittee Chair will call for any other items Subcommittee members would like to discuss.

XI. Adjourn—UCR Finance Subcommittee Chair

The UCR Finance Subcommittee Chair will adjourn the meeting.

The agenda will be available no later than 5:00 p.m. Eastern time, February 6, 2026 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2026-02833 Filed 2-10-26; 4:15 pm]

BILLING CODE 4910-YL-P